FEDERAL RESERVE SYSTEM

Change in Bank Control Notices; Acquisitions of Shares or Bank Holding Companies; Correction

This notice corrects a notice (FR Doc. 04-23556) published on page 61840 of the issue for Thursday, October 21, 2004.

Under the Federal Reserve Bank of St. Louis, heading, the entry for Russell Badgett, Jr. Irrevocable Trust, with Bentley F. Badgett, Jr., as trustee, both of Madisonville, Kentucky, is revised to read as follows:

A. Federal Reserve Bank of St. Louis (Randall C. Sumner, Vice President) 411 Locust Street, St. Louis, Missouri 63166-2034:

1. Russell Badgett, Jr. Irrevocable Trust, with Bentley F. Badgett, Jr. as trustee, both of Madisonville, Kentucky; to acquire voting shares of Hancock Bancorp, Inc., Hawesville, Kentucky, and thereby indirectly retain voting shares of Breckinridge Bank, Cloverport, Kentucky, and Hancock Bank & Trust Company, Hawesville, Kentucky.

In connection with this application, the Badgett Control Group, which consists of Russell Badgett, Jr., Madisonville, Kentucky; Russell Badgett, Jr. Irrevocable Trust, Madisonville, Kentucky; Bentley F. Badgett, individually and as trustee, Madisonville, Kentucky; Dr. C. B. Badgett, Lewisport, Kentucky; Russell Badgett III, Owensboro, Kentucky; Joseph Rockney Badgett, Madisonville, Kentucky; Nita Anne Smaldone, Nashville, Tennessee; and Claudia Badgett Riner, Louisville, Kentucky, also have applied to retain voting shares of Hancock Bancorp, Inc., Hawesville, Kentucky, and thereby indirectly retain voting shares of Breckinridge Bank, Cloverport, Kentucky, and Hancock Bank & Trust Company, Hawesville, Kentucky.

Comments on this application must be received by November 4, 2004.

Board of Governors of the Federal Reserve System, October 21, 2004.
Robert deV. Frierson,
Deputy Secretary of the Board.

[FR Doc. 04-23983 Filed 10-26-04; 8:45 am]

BILLING CODE 6210-01-S